DEPARTMENT OF ENERGY

Federal Energy Regulatory Commission

[Docket No. AD09-9-000]

Small Hydropower Development in the United States; Notice of Technical Conference

August 14, 2009.

Take notice that the Federal Energy Regulatory Commission will hold a Commissioner-led technical conference on December 2, 2009, from 1 p.m. to 5 p.m. Eastern Time in the Commission Meeting Room at the Federal Energy Regulatory Commission, 888 First Street, NE., Washington, DC 20426. The conference will be open to the public and advance registration is not required.

The purpose of this conference is to explore issues related to licensing small non-federal hydropower projects in the United States. Specifically, the participants will discuss the Commission's program for granting licenses and exemptions from licensing, including 5-megawatt and conduit exemptions. The conference will also provide an opportunity for industry, state and federal agencies, tribes, and other stakeholders to express their views and suggestions for processing applications for small hydropower projects. The agenda for this conference will be published at a later date.

A free webcast of this conference will be available through http://www.ferc.gov. Transcripts of the conference will also be made available. Instructions for viewing the webcast and for obtaining transcripts will be published at a later date.

Commission conferences are accessible under section 508 of the Rehabilitation Act of 1973. For accessibility accommodations, please send an e-mail to accessibility@ferc.gov or call toll free (866) 208-3372 (voice) or (202) 208-1659 (TTY), or send a FAX to (202) 208-2106 with the required accommodations.

For more information about this conference, please contact Steve Hocking at (202) 502-8753 or steve.hocking@ferc.gov.

Kimberly D. Bose,
Secretary.

[FR Doc. E9-20239 Filed 8-21-09; 8:45 am]

BILLING CODE 6717-01-P